DEPARTMENT OF ENERGY

Federal Energy Regulatory Commission

[Docket Nos. RM01-12-000, RT01-2-000, RT01-10-000, RT01-15-000, ER02-323-000, RT01-34-000, RT01-35-000, RT01-67-000, RT01-74-000, RT01-75-000, RT01-77-000, RT01-85-000, RT01-86-000, RT01-87-000, RT01-88-000, RT01-94-000, RT01-95-000, RT01-98-000, RT01-99-000, RT01-100-000, RT01-101-000, EC01-146-000, ER01-3000-000, RT02-1-000, EL02-9-000, EC01-156-000, ER01-3154-000, and EL01-80-000]

Electricity Market Design and Structure, (RTO Cost Benefit Analysis Report); Notice of Regional Teleconferences and Due Dates for Comments and Reply Comments

March 1, 2002.

The Federal Energy Regulatory Commission (FERC) issued an RTO Cost Benefit Report entitled “Economic Assessment of RTO Policy” at its regular open meeting on February 27, 2002. The report, prepared by ICF Consulting, is the result of a study commissioned by FERC to examine potential economic cost and benefits of a move toward Regional Transmission Organization (RTO's). The report is available on the Commission's Web site at www.ferc.gov. The Commission's Staff and ICF Consulting plan on holding a series of regional teleconferences with State Commissions, members of the industry and the public to discuss the results of the report from March 13-19, 2002. These teleconferences are designed to assist the participants in understanding the report results and in preparing written comments for submission to the Commission.

There will be four regional teleconferences with State Commissions and an additional four teleconferences with Industry and others as follows.

For State Commissioners

March 13th 10 a.m. EST to Noon, Midwest State Commissioners

2 p.m. EST to 4 p.m., Southeast State Commissioners

March 15th 10 a.m. EST to Noon, Northeast State Commissioners

2 p.m. EST to 4 p.m., Western State Commissioners

For Industry and Public

March 18th 10 a.m. EST to Noon, Midwest Region

2 p.m. EST to 4 p.m., Southeast Region

March 19th 10 a.m. EST to Noon, Northeast Region

2 p.m. EST to 4 p.m., Western Region

Instructions for participating in these teleconferences will be included in a future notice. All of the regional teleconferences will be transcribed and be placed in appropriate and related dockets. Copies of the transcripts will be available from Ace-Federal Reporters (800-336-6646 or 202-347-3700) at cost and will be available on the Commission's Web site 10 days after receipt from Ace-Federal Reporters.

All written comments on the RTO Cost Benefit Report will be due on April 9, 2002. Reply comments will be due on April 23, 2002.

Comments may be filed electronically via the Internet in lieu of paper ; see 18 CFR 385.2001(a)(1)(iii) and the instructions on the Commission's Web site under the “e-Filing” link. Paper copies require the original and fourteen copies pursuant to the Commission's regulations.

Contact Information

For State Commissions

Edward Meyers 202-208-0004 Edward.meyers@ferc.gov

Thomas Russo 202-208-0004 Thomas.russo@ferc.gov

Federal Energy Regulatory Commission, 888 N. Capitol Street, NE, Washington DC 20426, 202-208-0004.

For Industry and Public

William Meroney 202-208-1069 William.meroney@ferc.gov

Charles Whitmore 202-208-1256 Charles.whitmore@ferc.gov

Federal Energy Regulatory Commission, 888 N. Capitol Street, NE., Washington DC 20426

Magalie R. Salas,
Secretary.

[FR Doc. 02-5443 Filed 3-6-02; 8:45 am]

BILLING CODE 6717-01-P